ENVIRONMENTAL PROTECTION AGENCY

[FRL-10022-04-OAR]

Disclosure of Information Claimed as, or Determined by EPA To Be, Confidential Business Information in Renewable Fuel Standard (RFS) Small Refinery Exemption Petitions and All RFS Related Information in EPA's Moderated Transaction System (EMTS)

AGENCY: Environmental Protection Agency (EPA).

ACTION: Notice.

SUMMARY: The U.S. Environmental Protection Agency (“EPA” or “Agency”) is providing notice of disclosure to all obligated parties under the Renewable Fuel Standard (“RFS”) program that have petitioned for a small refinery exemption and to all parties whose RFS information otherwise resides in EPA's Moderated Transaction System (“EMTS”). In response to a request by the U.S. Government Accountability Office (“GAO”), EPA will disclose information to GAO which has been submitted to the Agency that is claimed to be, or has been determined to be, confidential business information (collectively “CBI”). The information to be disclosed includes all documents, information, and data related to all small refinery exemption petitions received by EPA from the start of the RFS program through the present. These records include, but are not limited to: (a) All materials submitted by the small refineries as part of its petition; (b) any documentation sent by the Department of Energy (“DOE”) to EPA stating DOE's findings and score(s) associated with the petition(s) and any EPA responses thereto; (c) any EPA record addressing the subject of the exemption petition(s), including any analysis that EPA conducted in addition to DOE's findings; and (d) EPA's final exemption decision sent to the refinery. EPA also intends to disclose to GAO all RFS related transaction-level data contained in EMTS, including Renewable Identification Number (“RIN”) transactions under the RFS. This information is being produced to GAO pursuant to EPA's regulations pertaining to disclosure.

DATES: EPA will disclose the material discussed in this document to GAO, including any CBI therein, no later than 16 calendar days after publication of this notice in the Federal Register. All CBI-claimed documents will be destroyed, deleted, or returned to EPA at the conclusion of GAO's review.

FOR FURTHER INFORMATION CONTACT: Karen Nelson, Environmental Protection Specialist, Compliance Division, Office of Transportation and Air Quality at ComplianceInfo@epa.gov or (734) 214-4362.

SUPPLEMENTARY INFORMATION:

I. Background

In connection with a review by the U.S. Government Accountability Office (“GAO”), the U.S. Environmental Protection Agency (“EPA” or “Agency”) received a request under 40 CFR 2.209(b) from GAO for records submitted to EPA under the Renewable Fuel Standard (“RFS”) program from the start of the program through the present. The information that will be disclosed to GAO includes all documents, information, and data related to all small refinery exemption petitions received by EPA from the start of the RFS program through the present. These records include, but are not limited to: (a) All materials submitted by the small refineries as part of its petition; (b) any documentation sent by the Department of Energy (“DOE”) to EPA stating DOE's findings and score associated with the petition; (c) any analysis that EPA conducted in addition to DOE's findings; and (d) EPA's final exemption decision sent to the refinery. The request also includes all RFS related transaction-level data contained in EPA's Moderated Transaction System (“EMTS”), including Renewable Identification Number (“RIN”) transactions under the RFS. This notice is being provided pursuant to 40 CFR 2.209(b)(2) to inform potentially affected businesses that EPA intends to transmit certain documents, which may contain information submitted by oil refiners and refineries, or any company associated therewith, that is claimed to be, or has been determined to be, confidential business information (collectively “CBI”) to GAO in response to its request for information. The disclosure of CBI is limited to GAO and further disclosure is generally restricted by 31 U.S.C. 716(e) and subject to criminal penalties under 18 U.S.C. 1905. Any objections to EPA's disclosure must be raised within 15 calendar days from publication of this notice.

Dated: April 29, 2021.
Byron Bunker,
Director, Compliance Division, Office of Transportation and Air Quality, Office of Air and Radiation.

[FR Doc. 2021-09467 Filed 5-4-21; 8:45 am]

BILLING CODE 6560-50-P